DEPARTMENT OF COMMERCE

Minority Business Development Agency

[Docket No. 000724217-1193-03 ]

RIN 0640-ZA08

Solicitation of Applications for the Minority Business Development Center (MBDC) Program

AGENCY: Minority Business Development Agency, Commerce.

ACTION: Notice.

SUMMARY: The Minority Business Development Agency (MBDA) is soliciting competitive applications, under its Minority Business Development Center (MBDC) Program, from organizations to operate MBDCs in Miami, Florida, Oklahoma City, Oklahoma, and Honolulu, Hawaii. The prior solicitation for these three geographic service areas was unsuccessful. The intent of this solicitation is to provide business assistance to minority-owned companies in these three areas.

DATES: The closing date for applications for each MBDC is September 21, 2001. Anticipated time for processing of applications is 120 days. MBDA anticipates that awards for the MBDC program will be made with a start date of January 1, 2002. Completed applications for the MBDC program must be (1) mailed (USPS postmark) to the MBDC Program Office (see: ADDRESSES); or (2) received by MBDA (see: ADDRESSES) no later than 5 p.m. Eastern Daylight Time.

ADDRESSES: If the applicant or its representative mails the application, it must be mailed to: Minority Business Development Center Program Office, Office of Executive Secretariat, HCHB, Room 5063, Minority Business Development Agency, U.S. Department of Commerce, 14th Street and Constitution Avenue, NW., Washington, DC 20230.

If the application is hand-delivered by the applicant or its representative, the application must be delivered to Room 1874, which is located at Entrance #10, 15th Street, NW., between Pennsylvania and Constitution Avenues.

To submit an application electronically (see: SUPPLEMENTARY INFORMATION), you must go to www.mbda.gov/egrants.

FOR FURTHER INFORMATION CONTACT: For further information, contact the MBDA Regional Office (see: Geographic Service Areas) in which the project will be located.

Pre-Application Conference: A pre-application conference will be held for each MBDC solicitation. Contact the MBDA Regional Office (see: Geographic Service Areas) in which the project will be located to receive further information. Proper identification is required for entrance into any Federal building.

SUPPLEMENTARY INFORMATION: The prior solicitation for operators for MBDCs in Miami, Florida, Oklahoma City, Oklahoma, and Honolulu, Hawaii, published in the Federal Register on August 28, 2000 (65 FR 52069), was unsuccessful. MBDA has elected to re-compete these service areas. The requirements and procedures contained in the August 28, 2000 solicitation are applicable to this solicitation. For a copy of the August 28, 2000 solicitation, please go to www.mbda.gov.

Applications postmarked later than the closing date or received after the closing date and time will not be considered.

Applicants must submit one signed original plus two (2) copies of the application.

Applicants are encouraged to submit their proposal electronically via the World Wide Web. However, the following paper forms must be submitted with original signatures in conjunction with any electronic submissions by the closing date and time stated above: (1) SF-424, Application for Federal Assistance; (2) the SF-424B, Assurances-Non-Construction Programs; (3) the SF-LLL (Rev. 7-97) (if applicable), Disclosure of Lobbying Activities; (4) Department of Commerce Form CD-346 (if applicable), Applicant for Funding Assistance; and (5) the CD-511, Certifications Regarding Debarment, Suspension and Other Responsibility Matters; Drug-Free Workplace Requirements and Lobbying. MBDA's web site address to submit an application on-line is www.mbda.gov/egrants. All required forms are located at this web address.

Failure to submit a signed, original SF-424 with the application, or separately in conjunction with submitting a proposal electronically, by the deadline will result in the application being rejected and returned to the applicant. Failure to sign and submit with the application, or separately in conjunction with submitting a proposal electronically, the other forms identified above by the deadline will automatically cause an application to lose two (2) points. Failure to submit other documents or information may adversely affect an applicant's overall score. MBDA shall not accept any changes, additions, revisions or deletions to competitive applications after the closing date for receiving applications, except through a formal negotiation process.

Authority: Executive Order 11625 and 15 U.S.C. 1512.

Catalog of Federal Domestic Assistance (CFDA)

11.800 Minority Business Development Center Program.

Funding Availability

MBDA anticipates that a total of approximately $800K will be available in FY 2002 for Federal assistance under this program. Applicants are hereby given notice that funds have not yet been appropriated for this program. In no event will MBDA or the Department of Commerce be responsible for proposal preparation costs if this program fails to receive funding or is canceled because of other agency priorities.

Financial assistance awards under this program may range from $155,000 to $338,750 in Federal funding per year based upon minority population, the size of the market and its need for MBDA resources. Applicants must submit project plans and budgets for three years. The annual awards must have Scopes of Work that are clearly severable and can be easily separated into annual increments of meaningful work that will produce measurable programmatic objectives. Maintaining the severability of each annual funding request is necessary to ensure the orderly management and closure of a project in the event funding is not available for the second or third year continuation of the project. Projects will be funded for no more than one year at a time. Funding for subsequent years will be at the sole discretion of the Department of Commerce (DoC) and will depend on satisfactory performance by the recipient and the availability of funds to support the continuation of the project.

Geographic Service Areas

An operator must provide services to eligible clients within its specified geographic service area. MBDA has defined the service area for each award below. To determine its geographic service areas, MBDA uses states, counties, Metropolitan Areas (MA), which comprise metropolitan statistical areas (MSA), consolidated metropolitan statistical areas (CMSA), and primary metropolitan statistical areas (PMSA) as defined by the OMB Committee on MAs (see: attachment to OMB Bulletin 99-04, Revised Statistical Definitions of Metropolitan Areas (MAs) and Guidance on Uses of MA Definitions (June 30, 1999), found at http://www.whitehouse.gov/OMB/inforeg/index.html) and other demographic boundaries as specified herein. Services to eligible clients outside of an operator's specified service area may be requested, on a case-by-case basis, through the appropriate MBDA Regional Director and granted by the Grants Officer.

1. MBDC Application: Miami/Ft. Lauderdale

Geographic Service Area: Miami—Fort Lauderdale, Florida MAs.

Award Number: 04-10-02001-01.

The recipient is required to maintain a satellite office in Fort Lauderdale, to service the Fort Lauderdale MA, while maintaining the MBDC principle office in the Miami MA. Contingent upon the availability of Federal funds, the cost of performance for each of the three 12-month funding periods from January 1, 2002 to December 31, 2004, is estimated at $398,529. The total Federal amount is $338,750. The application must include a minimum cost share of 15% or $59,779 in non-Federal contributions.

The minimum performance goals for the MBDC are:

Completed Work Products: 188.

Dollar Value of Transactions: $21,176,471.

Number of New Clients: 221.

Number of Client Service Hours: 3,750.

Pre-Application Conference: For the exact date, time and place, contact the Atlanta Regional Office at (404) 730-3300.

For Further Information and a copy of the application kit contact Robert Henderson, Regional Director.

2. MBDC Application: Oklahoma City

Geographic Service Area: Oklahoma City, Oklahoma MA.

Award Number: 06-10-02001-01.

Contingent upon the availability of Federal funds, the cost of performance for each of the three 12-month funding periods from January 1, 2002 to December 31, 2004, is estimated at $182,353. The total Federal amount is $155,000. The application must include a minimum cost share of 15% or $27,353 in non-Federal contributions.

The minimum performance goals for the MBDC are:

Completed Work Products: 106.

Dollar Value of Transactions: $12,000,000.

Number of New Clients: 125.

Number of Client Service Hours: 2,125.

Pre-Application Conference: For the exact date, time and place, contact the Dallas Regional Office at (214) 767-8001.

For Further Information and a copy of the application kit, contact John Iglehart, Regional Director.

3. MBDC Application: Honolulu

Geographic Service Area: Honolulu, Hawaii MA.

Award Number: 09-10-02001-01.

Contingent upon the availability of Federal funds, the cost of performance for each of the three 12-month funding periods from January 1, 2002 to December 31, 2004, is estimated at $288,235. The total Federal amount is $245,000. The application must include a minimum cost share of 15% or $43,235 in non-Federal contributions.

The minimum goals for the MBDC are:

Completed Work Products: 162.

Dollar Value of Transactions: $18,352,941.

Number of New Clients: 191.

Number of Client Service Hours: 3,250.

Pre-Application Conference: For the exact date, time and place, contact the San Francisco Regional Office at (415) 744-3001.

For Further Information and a copy of the application kit contact: Melda Cabrera, Regional Director.

Executive Order 12866: This Notice was determined to be not significant for purposes of Executive Order 12866.

Dated: July 26, 2001.
Ronald N. Langston,
Director, Minority Business Development Agency.

[FR Doc. 01-19554 Filed 8-6-01; 8:45 am]

BILLING CODE 3510-21-P